DEPARTMENT OF VETERANS AFFAIRS

Solicitation of Nominations for Appointment to the Sexual Assault/Sexual Harassment Working Group

AGENCY: Department of Veterans Affairs.

ACTION: Notice.

SUMMARY: The Department of Veterans Affairs (VA) is seeking nominations of qualified candidates to be considered for appointment as members of the VA Sexual Assault/Sexual Harassment Prevention and Response Working Group.

DATES: Nominations for membership on the Committee must be received by June 7, 2021, no later than 4:00 p.m., Eastern Standard Time. Packages received after this time will not be considered for the current membership cycle.

ADDRESSES: All nomination packages should be emailed to VASECWorkgroup@va.gov.

FOR FURTHER INFORMATION CONTACT: Margaret B. Kabat, LCSW-C, CCM, Senior Advisor for Families, Caregivers and Survivors, Office of the Secretary, Department of Veterans Affairs, Washington, DC 20420; Margaret.Kabat@va.gov; 202-577-4331. (This is not a toll-free number.)

SUPPLEMENTARY INFORMATION: In carrying out the duties set forth, the Working Group responsibilities include, but are not limited to:

• Development of an action plan for addressing changes at all levels of VA to reduce instances of harassment and sexual assault;

• Development of standardized media for VA, Veterans Service Organizations and other stakeholders to use in print and on the internet to reduce sexual harassment and sexual assault; and

• Development of bystander intervention training for Veterans.

Authority: The Working Group was established pursuant to the Johnny Isakson and David P. Roe, M.D., Veterans Health Care and Benefits Improvement Act of 2020, Title V, Deborah Sampson, Subtitle III, Eliminating Harassment and Assault, Section 5303, Anti-harassment and anti-sexual assault policy of Department of Veterans Affairs, to advise the Secretary on specific VA policies to eliminate harassment and assault in VA facilities. By statute, this Working Group is not considered a Federal Advisory Committee and therefore is not subject to the rules under the Federal Advisory Committee Act.

Membership Criteria: The Working Group is requesting nominations for specific membership. As required by statute, the members of the Committee are appointed by the Secretary, from the general public, including:

• Veterans Service Organizations; and

• State, local and Tribal Veterans agencies.

To the extent possible, the Secretary seeks members who have diverse professional and personal qualifications who are motivated to advance VA's leadership on issues of sexual harassment and assault prevention and survivor care and support. We ask that nominations include information of this type so that VA can ensure a balanced Committee membership. Individuals appointed to the Working Group by the Secretary shall be invited to serve a 1-year term. The Secretary may reappoint a member for an additional term of service. Committee members will not be compensated for their time or expenses incurred. Self-nominations are acceptable. Any letters of nomination from organizations or other individuals should accompany the package when it is submitted. Members of the public are also eligible for nomination, including Veterans' families, caregivers and survivors.

Requirements for Nomination Submission

Nominations should be typed (one nomination per nominator). Nomination packages should include:

(1) A letter of nomination (maximum of 2 pages) that clearly states the name and affiliation of the nominee, the basis for the nomination (i.e., specific attributes which qualify the nominee for service in this capacity, as listed above) and a statement from the nominee indicating that he or she is willing to serve as a member of the Working Group;

(2) the nominee's contact information, including name, mailing address, telephone number and email address;

(3) the nominee's curriculum vitae;

(4) letter(s) of recommendation (optional); and

(5) a statement confirming that he or she is not a federally-registered lobbyist.

The Department makes every effort to ensure that the membership of Working Groups is balanced in terms of points of view represented and the committee's function. Appointments to this Working Group shall be made without discrimination based on a person's race, color, religion, sex, sexual orientation, gender identity, national origin, age, disability or genetic information. Nominations must state that the nominee appears to have no conflict of interest that would preclude membership.

Signing Authority

Denis McDonough, Secretary of Veterans Affairs, approved this document on April 30, 2021, and authorized the undersigned to sign and submit the document to the Office of the Federal Register for publication electronically as an official document of the Department of Veterans Affairs.

Jeffrey M. Martin,
Assistant Director, Office of Regulation Policy & Management, Office of the Secretary, Department of Veterans Affairs.

[FR Doc. 2021-09540 Filed 5-5-21; 8:45 am]

BILLING CODE 8320-01-P